DEPARTMENT OF THE INTERIOR

Bureau of Ocean Energy Management

[Docket No. BOEM-2023-0016]

Notice of Determination of No Competitive Interest (DNCI) in a Proposed Research Lease Area on the Gulf of Maine Outer Continental Shelf (OCS)

AGENCY: Bureau of Ocean Energy Management (BOEM), Interior.

ACTION: Notice of no competitive interest determination.

SUMMARY: BOEM provides notice of its determination that competitive interest does not exist in the area identified in “Research Lease on the [OCS] in the Gulf of Maine, Request for Competitive Interest (RFCI)” published in the Federal Register on August 19, 2022. BOEM published that RFCI after receiving an OCS renewable energy research lease application from the State of Maine Governor's office in October 2021. BOEM received complete submissions in response to the RFCI from two qualified entities. Upon review of the whole record, including the two responses, BOEM determined that any interest in the lease area is not competitive.

DATES: Effective March 20, 2023.

FOR FURTHER INFORMATION CONTACT: Luke Feinberg, Bureau of Ocean Energy Management, Office of Renewable Energy Programs, 45600 Woodland Road (VAM-OREP), Sterling, Virginia 20166, Luke.Feinberg@boem.gov or (571) 474-7616.

SUPPLEMENTARY INFORMATION:

Authority

This DNCI is made pursuant to subsection 8(p)(3) of the OCS Lands Act (43 U.S.C. 1337(p)(3)) and its implementing regulations at 30 CFR 585.239. Subsection 8(p)(3) of the OCS Lands Act requires that an OCS renewable energy lease, easement, or right-of-way (ROW) be issued “on a competitive basis unless the Secretary [of the Interior] determines after public notice of a proposed lease, easement, or [ROW] that there is no competitive interest.” The Secretary delegated the authority to make such determinations to BOEM.

Determination and Next Steps

This DNCI provides public notice that BOEM determined competitive interest does not exist in the proposed research lease area. This determination does not guarantee that the State of Maine will receive a research lease. After publication of this notice, BOEM may proceed with the research leasing process using the procedures described in 30 CFR 585.239. The next steps in that process include initiating an environmental review of potential impacts from leasing activities associated with the proposed research lease, siting the lease within the area identified in the RFCI, and negotiating lease terms.

Map of the Area

A map of Maine's proposed research lease area can be found at: https://www.boem.gov/renewable-energy/maine/state-activities/gulf-maine/state-maine-research-lease-application.

Elizabeth Klein,
Director, Bureau of Ocean Energy Management.

[FR Doc. 2023-05639 Filed 3-17-23; 8:45 am]

BILLING CODE 4340-98-P